SOCIAL SECURITY ADMINISTRATION

[Docket No. SSA-2018-0037]

Rescission of Social Security Ruling 82-53: Titles II and XVI: Basic Disability Evaluation Guides

AGENCY: Social Security Administration.

ACTION: Notice of rescission of Social Security Ruling 82-53.

SUMMARY: The Acting Commissioner of Social Security gives notice of the rescission of Social Security Ruling (SSR) 82-53.

DATES: This rescission is applicable on August 29, 2018.

FOR FURTHER INFORMATION CONTACT: Dan O'Brien, Office of Vocational, Evaluation, and Process Policy in the Office of Disability Policy, Social Security Administration, 6401 Security Boulevard, Baltimore, MD 21235-6401, (410) 597-1632. For information on eligibility or filing for benefits, call our national toll-free number, 1-800-772-1213 or TTY 1-800-325-07708, or visit our internet site, Social Security Online, at http://www.socialsecurity.gov.

SUPPLEMENTARY INFORMATION: Although 5 U.S.C. 552(a)(1) and (a)(2) do not require us to publish this notice, we are doing so in accordance with 20 CFR 402.35(b)(1).

Through SSRs, we make available to the public precedential decisions relating to the Federal old-age, survivors, disability, supplemental security income, and special veterans benefits programs. We may base SSRs on determinations or decisions made at all levels of administrative adjudication, Federal court decisions, Commissioner's decisions, opinions of the Office of General Counsel, or other interpretations of the law and regulations.

We are rescinding SSR 82-53: “Titles II and XVI: Basic Disability Evaluation Guides,” because it is in part duplicative of other policy guidance and in part outdated.

SSR 82-53 provided an overview and an explanation of the definition and terms contained in the disability provisions of title II and title XVI of the Social Security Act (Act) and implementing regulations. The information in the SSR duplicates information available in the Act, regulations, and other sub-regulatory policy documents. For example, the definitions of “disability” and “blindness” already appear in the Act and in our regulations.

Additionally, some of the information in SSR 82-53 is outdated. For example, we no longer need to include language from expired State plans that excluded newly eligible Supplemental Security Income (SSI) recipients from State plans because those plans were rolled over as SSI benefits more than forty years ago. Another example is the elimination of the “comparable severity” disability standard for children's impairments, which was repealed under the Personal Responsibility and Work Opportunity Reconciliation Act of 1996.¹ The updated policies regarding children's benefits under title XVI are well documented in our regulations and sub-regulatory policy documents. Similarly, the Omnibus Budget Reconciliation Act of 1990 removed the special standard of “engaging in gainful activity” for determining disability for widows after 1991.² Therefore, we are rescinding SSR 82-53 as the information it contains duplicates information available in the Act, regulations, and other sub-regulatory policy documents and is outdated.

¹ Section 211 of Public Law 104-193, the Personal Responsibility and Work Opportunity Reconciliation Act of 1996, amended section 1614(a)(3) of the Act to provide a definition of disability for children separate from that for adults.

² Section 5103 of Public Law 101-508, the Omnibus Budget Reconciliation Act of 1990, amended section 223 of the Act to repeal the special definition of disability applicable in widows' claims and conformed the definition of disability for widows to that for all other title II claimants and title XVI adult claimants.

(Catalog of Federal Domestic Assistance, Programs Nos. 96.001, Social Security—Disability Insurance; 96.002, Social Security— Retirement Insurance; 96.004, Social Security—Survivors Insurance; 96.006—Supplemental Security Income.)

Nancy A. Berryhill,
Acting Commissioner of Social Security.

[FR Doc. 2018-18739 Filed 8-28-18; 8:45 am]

BILLING CODE 4191-02-P